DEPARTMENT OF TRANSPORTATION

Federal Transit Administration

Applications for TIFIA Credit Assistance

AGENCY: Federal Transit Administration (FTA), Department of Transportation (DOT).

ACTION: Notice of availability of funds inviting applications for credit assistance for major surface transportation projects.

SUMMARY: Elsewhere in today's Federal Register, the the Federal Highway Administration (FHWA) published a notice announcing the availability of Transportation Infrastructure Finance and Innovation Act (TIFIA) assistance and inviting applicants to submit applications for credit assistance for major surface transportation projects. The TIFIA authorizes the Department of Transportation (DOT) to provide credit assistance in the form of secured (direct) loans, lines of credit, and loan guarantees to public and private sponsors of eligible surface transportation projects. Highway, passenger rail, transit, and “intermodal” projects (including intelligence transportation systems) may receive credit assistance under the TIFIA. Interested persons should review the FHWA Notice in today's Federal Register for further information.

FOR FURTHER INFORMATION CONTACT: Mr. Paul Marx, Office of Policy Development, (202) 366-1675, or Ms. Paula Schwach, Office of the Chief Counsel, (816) 329-3935.

(Authority: 23 U.S.C. 181-189; 49 CFR 1.51).
Issued on: November 13, 2001.
Jennifer L. Dorn,
Administrator.

[FR Doc. 01-29061 Filed 11-20-01; 8:45 am]

BILLING CODE 4910-57-M